DEPARTMENT OF ENERGY

Bonneville Power Administration

McNary-John Day Transmission Line Project

AGENCY: Bonneville Power Administration (BPA), Department of Energy (DOE).

ACTION: Notice of availability of Record of Decision (ROD).

SUMMARY: This notice announces the availability of the ROD to construct the McNary-John Day Transmission Line Project in Benton and Klickitat Counties, Washington, and Sherman and Umatilla Counties, Oregon. This decision is based on input from public processes and information in the McNary-John Day Transmission Line Project Final Environmental Impact Statement (DOE/EIS-0332, August 2002). The proposed action consists of building 79 miles of 500-kilovolt transmission line between BPA's McNary and John Day Substations, including several short-line routing alternatives. Construction of this transmission line is needed to allow new power, which is expected to be generated in southeast Washington and northeast Oregon, to be transmitted over BPA's transmission system. Some initial project activities will occur in 2003, with complete construction occurring when financing is secured from the parties who will utilize the line capacity.

ADDRESSES: Copies of the McNary-John Day Transmission Line Project ROD and the McNary-John Day Transmission Line EIS may be obtained by calling BPA's toll-free document request line: 1-800-622-4520.

FOR FURTHER INFORMATION CONTACT: Stacy L. Mason, KEC-4, Bonneville Power Administration, PO Box 3621, Portland, Oregon, 97208-3621, telephone number 503-230-5455; fax number 503-230-5699; e-mail slmason@bpa.gov.

Issued in Portland, Oregon, on October 30, 2002.
Stephen J. Wright,
Administrator and Chief Executive Officer.

[FR Doc. 02-28467 Filed 11-7-02; 8:45 am]

BILLING CODE 6450-01-P